DEPARTMENT OF HOMELAND SECURITY

Federal Emergency Management Agency

[Docket ID: FEMA-2023-0023; OMB No. 1660-0114]

Agency Information Collection Activities: Proposed Collection, Comment Request; FEMA Preparedness Grants: Port Security Grant Program (PSGP)

AGENCY: Federal Emergency Management Agency, Department of Homeland Security.

ACTION: 60-Day notice of revision and request for comments.

SUMMARY: The Federal Emergency Management Agency (FEMA), as part of its continuing effort to reduce paperwork and respondent burden, invites the general public to take this opportunity to comment on an extension, with change, of a currently approved information collection. In accordance with the requirements of the Paperwork Reduction Act of 1995, this notice seeks comments concerning the information collection activities required to administer the Port Security Grant Program (PSGP) and an additional new form to facilitate extension requests.

DATES: Comments must be submitted on or before November 6, 2023.

ADDRESSES: To avoid duplicate submissions to the docket, please submit comments at www.regulations.gov under Docket ID FEMA-2023-0023. Follow the instructions for submitting comments.

All submissions received must include the agency name and Docket ID. Regardless of the method used to submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Duane Davis, Section Chief, FEMA, Grant Programs Directorate, 202-680-4060, duane.davis@fema.dhs.gov. You may contact the Information Management Division for copies of the proposed collection of information at email address: FEMA-Information-Collections-Management@fema.dhs.gov.

SUPPLEMENTARY INFORMATION: Section 102 of the Maritime Transportation Security Act of 2002, as amended (46 U.S.C. 70107), authorizes the PSGP to provide for the risk-based allocation of funds to implement Area Maritime Transportation Security Plans and facility security plans among port authorities, facility operators, and State and local government agencies required to provide port security services and to train law enforcement personnel under 46 U.S.C. 70132. Before awarding a grant under the program, the Secretary for Homeland Security shall provide for review and comment by the appropriate Federal Maritime Security Coordinators and the Maritime Administrator. In administering the grant program, the Secretary shall consider national economic, energy, and strategic defense concerns based upon the most current risk assessments available.

Any information collected by FEMA for this program is in accordance with general reporting requirements, for example, see 2 CFR 200.329; or in accordance with 46 U.S.C. 70107(g), as amended by Section 112(c) of the Security and Accountability For Every (SAFE) Port Act of 2006 (Pub. L. 109-347), which provides that entities subject to an Area Maritime Transportation Security Plan may submit an application for a grant under this program at such time, in such form, and containing such information and assurances as the Secretary may require.

2 CFR 200.329 requires grant recipients to report on the status of their grant funded activities including potential or real setbacks in performance.

The GPD-Extension form, FEMA Form FF-207-FY-23-110 is newly added and allows FEMA to ensure a consistent review process for extending the Period of Performance of existing grants per 2 CFR 200.309. This form standardizes the information collection as well as the review criteria for extension requests. Information includes the current status of the project, an explanation of delays experienced in completing the project on schedule and anticipated new milestones for completion within the newly requested Period of Performance.

Collection of Information

Title: FEMA Preparedness Grants: Port Security Grant Program (PSGP).

Type of Information Collection: Revision of a currently approved information collection.

OMB Number: 1660-0114.

FEMA Forms: FEMA Form FF-207-FY-23-108 (formerly 089-05), PSGP Investment Justification; FEMA Form FF-207-FY-23-109 (formerly 088-0-1), Grant Programs Directorate Performance Report (GPD-PR), and FEMA Form FF-207-FY-23-110, Grant Programs Directorate Extension Request (GPD-Extension).

Abstract: Section 102 of the Maritime Transportation Security Act of 2002, as amended (46 U.S.C. 70107), authorizes the PSGP to provide for the risk-based allocation of funds to implement Area Maritime Transportation Security Plans and facility security plans among port authorities, facility operators, and State and local government agencies required to provide port security services and to train law enforcement personnel under 46 U.S.C. 70132. Before awarding a grant under the program, the Secretary for Homeland Security shall provide for review and comment by the appropriate Federal Maritime Security Coordinators and the Maritime Administrator. In administering the grant program, the Secretary shall take into account national economic, energy, and strategic defense concerns based upon the most current risk assessments available.

Affected Public: State, local or Tribal government and private sector.

Estimated Number of Respondents: 966.

Estimated Number of Responses: 1,832.

Estimated Total Annual Burden Hours: 17,446.

Estimated Total Annual Respondent Cost: $1,462,290.

Estimated Respondents' Operation and Maintenance Costs: $0.

Estimated Respondents' Capital and Start-Up Costs: $0.

Estimated Total Annual Cost to the Federal Government: $1,853,355.

Comments

Comments may be submitted as indicated in the ADDRESSES caption above. Comments are solicited to (a) evaluate whether the proposed data collection is necessary for the proper performance of the Agency, including whether the information shall have practical utility; evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-19147 Filed 9-5-23; 8:45 am]

BILLING CODE 9111-78-P